DEPARTMENT OF THE INTERIOR

National Park Service

[NPS-WASO-NAGPRA-NPS0034884; PPWOCRADN0-PCU00RP14.R50000]

Notice of Inventory Completion Amendment: University of Arkansas Museum Collections, Fayetteville, AR

AGENCY: National Park Service, Interior.

ACTION: Notice; amendment.

SUMMARY: In accordance with the Native American Graves Protection and Repatriation Act (NAGPRA), the University of Arkansas Museum Collections has amended a Notice of Inventory Completion originally published in the Federal Register on November 13, 2018 and subsequently amended in a Notice of Inventory Completion Correction published in the Federal Register on May 20, 2022. This notice amends the minimum number of individuals and number of associated funerary objects in collections removed from Cross, Mississippi, and Poinsett Counties, AR.

DATES: Repatriation of the human remains and associated funerary objects in this notice may occur on or after December 19, 2022.

ADDRESSES: Dr. Mary Suter, University of Arkansas Museum Collections, Biomass 125, Fayetteville, AR 72701, telephone (479) 575-3456, email msuter@uark.edu.

SUPPLEMENTARY INFORMATION: This notice is published as part of the National Park Service's administrative responsibilities under NAGPRA. The determinations in this notice are the sole responsibility of the University of Arkansas Museum Collections. The National Park Service is not responsible for the determinations in this notice. Additional information on the amendments and determinations in this notice, including the results of consultation, can be found in the inventory or related records held by the University of Arkansas Museum Collections.

Amendment

This notice amends the determinations originally published in a Notice of Inventory Completion in the Federal Register (83 FR 56371-56374, November 13, 2018) and subsequently amended in a Notice of Inventory Completion Correction published in the Federal Register (87 FR 30990-30993, May 20, 2022). Repatriation of the items in the original and amended notices has not occurred. Accordingly, the minimum number of individuals whose human remains were removed from Rose Mound (3CS27) in Cross County, AR, is nine (previously six individuals were listed). In addition, this amendment lists as currently missing human remains representing nine individuals that had been removed from the Golden Lake site (3MS60) in Mississippi County, AR (previously no individuals were listed as missing). Also, this amendment lists as currently missing one additional associated funerary object that had been removed from the Hazel Site (3PO6) in Poinsett County, AR (previously 52 associated funerary objects were listed as missing).

In 1950, 1967, and another unknown date, human remains representing, at minimum, nine individuals were removed from the Rose Mound Site (3CS27) in Cross County, AR. No known individuals were identified. The five associated funerary objects are five fragments of copper.

At an unknown date, human remains representing, at minimum, 105 individuals were removed from the Golden Lake Site (3MS60) in Mississippi County, AR. Of that number, human remains representing nine individuals are currently missing from the collection. The University of Arkansas Museum continues to look for the missing individuals. No known individuals were identified. No associated funerary objects are present.

In 1933, human remains representing, at minimum, 260 individuals were removed from the Hazel Site (3PO6) in Poinsett County, AR. No known individuals were identified. In total, there are 1,319 associated funerary objects, of which 53 objects are currently missing from the collection. The 1,266 associated funerary objects currently accounted for are one abrader, six deer antler tines, one arrow point, one artifact sample, two bone awls, one axe, one basketry fragment, 30 bone beads, two ceramic beads, four crinoid beads, 439 shell beads, 83 animal bones, three bird bones, 118 fish bones, 78 ceramic bottles, 83 ceramic bowls, two non-vessel ceramic objects, two lots of charcoal, two clay lumps, two sheets of copper, one corn cob, nine pieces of daub, three ceramic discs, eight ear plugs, two effigy bottles, 12 effigy bowls, one effigy jar, one shell gorget, 43 ceramic jars, one knife, one antler knife, one bone needle, one copper ornament, one shell pendant, 21 bone pins, three pipes, 35 gar scales, two samples of sediment, 26 mussel shells, four pieces of turtle shell, 219 ceramic sherds, one painted stone, two textiles, three animal teeth, two twigs, and two partial vessels. The University of Arkansas Museum continues to look for the missing 53 (previously identified as 52) associated funerary objects, which are one deer antler tine, one artifact sample, one bird bill awl, one bone awl, three shell beads, two worked bones, eight ceramic bottles, 12 ceramic bowls (previously identified as 11 ceramic bowls), one ceramic non-vessel objects, one lot of charcoal, one sheet of copper, three ear plugs, one effigy bottle, four effigy bowls, one bone needle, one pipe, four mussel shells, one sherd, and six vessels.

Determinations (as Amended)

Pursuant to NAGPRA and its implementing regulations, and after consultation with the appropriate Indian Tribes and Native Hawaiian organizations, the University of Arkansas Museum Collections has determined that:

• The human remains represent the physical remains of 374 individuals of Native American ancestry.

• The 1,324 objects are reasonably believed to have been placed with or near individual human remains at the time of death or later as part of the death rite or ceremony.

• There is a relationship of shared group identity that can be reasonably traced between the human remains and associated funerary objects described in this notice and the Quapaw Nation (previously listed as The Quapaw Tribe of Indians).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 19, 2022. If competing requests for repatriation are received, the University of Arkansas Museum Collections must determine the most appropriate requestor prior to repatriation. Requests for joint repatriation of the human remains and associated funerary objects are considered a single request and not competing requests. The University of Arkansas Museum Collections is responsible for sending a copy of this notice to the Indian Tribes and Native Hawaiian organizations identified in this notice.

Authority: Native American Graves Protection and Repatriation Act, 25 U.S.C. 3003, and the implementing regulations, 43 CFR 10.9, § 10.10, § 10.13, and § 10.14.

Dated: November 9, 2022.
Melanie O'Brien,
Manager, National NAGPRA Program.

[FR Doc. 2022-25129 Filed 11-17-22; 8:45 am]

BILLING CODE 4312-52-P